DEPARTMENT OF ENERGY

Federal Energy Regulatory Commission

[Docket No. RP97-14-010]

Midwestern Gas Transmission Company; Notice of Negotiated Rates and Tariff

July 3, 2002.

Take notice that on June 28, 2002, Midwestern Gas Transmission Company (Midwestern) tendered for filing and acceptance, an interruptible gas transportation service agreement pursuant to Midwestern's Rate Schedule IT-1, First Revised Sheet No. 7 and First Revised Sheet No. 273 of Midwestern's FERC Gas Tariff, Third Revised Volume No. 1. The filing contains attachments of Contract No. IT0027 and a letter agreement that reflects a non-conforming contract between Midwestern and Mirant Americas Energy Marketing, LP (Mirant), which contains a discounted transportation rate and a negotiated fuel rate.

Midwestern states that copies of this filing have been sent to all of Midwestern's contracted shippers and interested state regulatory commissions.

Any person desiring to be heard or to protest said filing should file a motion to intervene or a proest with the Federal Energy Regulatory Commission, 888 First Street., NE, Washington, DC 20426, in accordance with Sections 385.214 or 385.211 of the Commission's Rules and Regulations. All such motions or protests must be filed in accordance with Sections 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket #” and follow the instructions (call 202-208-2222 for assistance). Comments, protests and interventions may be filed electronically via the Internet in lieu of paper. See 18 CFR 385.2001(a)(1)(iii) and the instructions on the Commission's Web site under the “e-Filing” link.

Magalie R. Salas,
Secretary.

[FR Doc. 02-17389 Filed 7-10-02; 8:45 am]

BILLING CODE 6717-01-M